DEPARTMENT OF THE INTERIOR

National Park Service

[NPS-WASO-NAGPRA-NPS0039555; PPWOCRADN0-PCU00RP14.R50000]

Notice of Intended Repatriation: Denver Art Museum, Denver, CO

AGENCY: National Park Service, Interior.

ACTION: Notice.

SUMMARY: In accordance with the Native American Graves Protection and Repatriation Act (NAGPRA), the Denver Art Museum intends to repatriate a certain cultural item that meets the definition of an object of cultural patrimony and that has a cultural affiliation with the Indian Tribes or Native Hawaiian organizations in this notice.

DATES: Repatriation of the cultural item in this notice may occur on or after April 18, 2025.

ADDRESSES: Dakota Hoska, Associate Curator of Native Arts, Denver Art Museum, 100 W. 14th Avenue Pkwy, Denver, CO 80201, telephone (720) 913-0161, email dhoska@denverartmuseum.org.

SUPPLEMENTARY INFORMATION: This notice is published as part of the National Park Service's administrative responsibilities under NAGPRA. The determinations in this notice are the sole responsibility of the Denver Art Museum, and additional information on the determinations in this notice, including the results of consultation, can be found in the summary or related records. The National Park Service is not responsible for the determinations in this notice.

Abstract of Information Available

A total of one cultural item with two distinct pieces has been requested for repatriation. The object of cultural patrimony is a screen with two sections, both sections are made of wood and the culturally significant motifs of ravens are painted on them. The raven motif signals a clan house within the Tlingit community of Sitka Alaska. Because of the motif, we will refer to these two screens, which together form one object, as the Raven Screen throughout this notice. The Raven Screen was obtained by the Denver Art Museum's curator of Native Arts, Mr. Frederick Douglas from Mr. Henry Moses in 1939 through intermediary George Emmons with the intention of exhibiting the screen at the San Francisco World's Fair. Henry Moses was a fur trader living in Hoonah, Alaska who collected other items from this community as well. To our knowledge, Moses was not Indigenous, nor was he a member of a clan or moiety affiliated with these screens and thus would have had no right to possess or sell these items, which were normally passed down generationally within the community through systems of inheritance under Tlingit customary law. It is documented, through photography, that these screens were once positioned on a clan house in Sitka, Alaska and were important to the shared cultural heritage of the Tlingit community living there. As a matrilineal society, screens such as these should pass down to a nephew of the family's matriarch. However, the heritage rights of Alaskan Native communities came into conflict with the Western legal system, which forced many families to relinquish their inherited rights of possession and lose ownership of their properties and any items associated with them. Henry Moses acquired these items from yet another person who is not specified in our records, but it is clear that at the time these screens were separated from the original knowledge keepers and rightful owners of this property, and at the time they fell into the hands of the unidentified person, the United States Government had so undermined the traditional inheritance systems and enacted measures of such extreme assimilation as to guarantee that these screens were relinquished or abandoned under a situation of extreme duress.

Determinations

The Denver Art Museum has determined that:

• The Raven Screen is an object of cultural patrimony and as described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Central Council of the Tlingit & Haida Indian Tribe who have upon multiple consultations alerted the DAM to the screen's ongoing cultural significance and their importance in ensuring cultural knowledge persists into the future.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after April 18, 2025. If competing requests for repatriation are received, the Denver Art Museum must determine the most appropriate requestor prior to repatriation. Requests for joint repatriation of the cultural item are considered a single request and not competing requests. The Denver Art Museum is responsible for sending a copy of this notice to the Indian Tribes and Native Hawaiian organizations identified in this notice and to any other consulting parties.

Authority: Native American Graves Protection and Repatriation Act, 25 U.S.C. 3004 and the implementing regulations, 43 CFR 10.9.

Dated: February 19, 2025.
Melanie O'Brien,
Manager, National NAGPRA Program.

[FR Doc. 2025-04606 Filed 3-18-25; 8:45 am]

BILLING CODE 4312-52-P